OFFICE OF THE UNITED STATES TRADE REPRESENTATIVE

[Docket No. WTO/DS-262]

WTO Dispute Settlement Proceeding Regarding U.S. Sunset Reviews of Antidumping and Countervailing Duties on Steel Products From France and Germany

AGENCY: Office of the United States Trade Representative.

ACTION: Notice; request for comments.

SUMMARY: The Office of the United States Trade Representative (“USTR”) is providing notice that, on July 25, 2002, the United States received from the European Communities (“EC”) a request for consultations under the Marrakesh Agreement Establishing the World Trade Organization (“WTO Agreement”) regarding antidumping and countervailing duties imposed by the United States on imports of corrosion-resistant carbon steel flat products (“corrosion-resistant steel”) from France and Germany and imports of cut-to-length carbon steel plate (“cut-to-length steel”) from Germany. The EC alleges that the sunset review determinations made by U.S. authorities concerning these products, and certain related matters, are inconsistent with Articles 1, 2, 3, 5, 6 (including Annex II), 11.1, 11.3, 11.4, 18.3 and 18.4 of the Agreement on Implementation of Article VI of the General Agreements on Tariffs and Trade 1994 (“AD Agreement”), Articles 10, 11, 12, 15, 21.1, 21.3, 21.4, 32.3 and 32.5 of the Agreement on Subsidies and Countervailing Measures (“SCM Agreement”), Articles VI and X of the General Agreement on Tariffs and Trade 1994 (“GATT 1994”), and Article XVI:4 of the WTO Agreement. USTR invites written comments from the public concerning the issues raised in this dispute.

DATES: Although USTR will accept any comments received during the course of the dispute settlement proceedings, comments should be submitted on or before August 30, 2002, to be assured of timely consideration by USTR.

ADDRESSES: Comments should be submitted (i) electronically, to ecsunset@ustr.gov, Attn: “EC Sunset Dispute” in the subject line, or (ii) by mail, to Sandy McKinzy, Monitoring and Enforcement Unit, Office of the General Counsel, Room 122, Office of the United States Trade Representative, 600 17th Street, NW., Washington, DC, 20508, Attn: EC Sunset Dispute, with a confirmation copy sent electronically to the address above, or by fax to (202) 395-3640.

FOR FURTHER INFORMATION CONTACT: William D. Hunter, Associate General Counsel, Office of the United States Trade Representative, 600 17th Street, NW., Washington, DC, (202) 395-3582.

SUPPLEMENTARY INFORMATION: Section 127(b) of the Uruguay Round Agreements Act (“URAA”) (19 U.S.C. 3537(b)(1)) requires that notice and opportunity for comment be provided after the United States submits or receives a request for the establishment of a WTO dispute settlement panel. Consistent with this obligation, but in an effort to provide additional opportunity for comment, USTR is providing notice that consultations have been requested pursuant to the WTO Dispute Settlement Understanding (“DSU”). If such consultation should fail to resolve the matter and a dispute settlement panel is established pursuant to the DSU, such panel, which would hold its meetings in Geneva, Switzerland, would be expected to issue a report on its findings and recommendations within six to nine months after it is established.

Major Issues Raised by the EC

With respect to the measures at issue, the EC request for consultations refers to the following:

• The final results of the sunset reviews by the DOC of the antidumping duty order on corrosion-resistant steel from France (65 FR 18050 (April 6, 2000)), the antidumping duty orders on corrosion-resistant steel and cut-to length steel from Germany (65 FR 18051 (April 6, 2000) and 65 FR 18055 (April 6, 2000), respectively), and the countervailing duty order on corrosion-resistant steel from France (65 FR 18063 (April 6, 2000));

• The ITC determinations in the sunset reviews of the antidumping and countervailing duty orders on cut-to-length steel from Germany and on corrosion-resistant steel from France and Germany (USITC Publication 3364, November 2000; 65 FR 75301 (December 1, 2000));

• The DOC notice of the continuation of the antidumping and countervailing duty orders on cut-to-length steel from Germany and on corrosion-resistant steel from France and Germany (65 FR 78469 (December 15, 2000)); and

• Certain provisions and procedures contained in Sections 751 (c) and 752 of the Tariff Act of 1930 (the “Act”), the implementing regulations (referred to by the EC as “19 CFR Section 351”), and the Sunset Policy Bulletin issued by the DOC (63 FR 18871 (April 16, 1998)).

With respect to the claims of WTO-inconsistency, the EC request for consultations refers to the following:

• The presumption of continuation or recurrence of dumping or countervailable subsidy with respect to an interested party when this latter has waived its participation in a review conducted by the DOC (section 751(c)(4)(B) of the Act);

• The specific 0.5% de minimis dumping margin in a sunset review (section 752(c)(4)(B) of the Act, DOC regulation 19 CFR 351.106(c), section II.A.5 of the DOC Sunset Policy Bulletin);

• The specific conditions for assessing cumulatively the volume and effect of imports of the subject merchandise from all subject countries in a sunset review (section 752(a)(7) of the Act);

• The assessment of the likely volume of imports in a sunset review (sections 752(a)(2) of the Act) and the failure to determine that imports from France or Germany would be likely to rise above their historical and current negligible volume;

• The failure of the ITC to use publicly available information to account for the missing information due to the limited cooperation from the domestic producers, in particular from the service centers;

• the decision of the ITC to assess the likely impact of French and German imports cumulatively with the imports from “all subject countries”.

Public Comment: Requirements for Submissions

Interested persons are invited to submit write comments concerning the issues raised in this dispute. Persons submitting comments may either send one copy by U.S. mail, first class, postage prepaid, to Sandy McKinzy at the address listed above, or transmit a copy electronically to ecsunset@ustr.gov, with “EC Sunset Dispute” in the subject line. For documents sent by U.S. mail, USTR requests that the submitter provide a confirmation copy, either electronically, to the electronic mail address listed above, or by fax to (202) 395-3640, USTR encourages the submission of documents in Adobe PDF format, as attachments to an electronic mail. Interested persons who make submissions by electronic mail should not provide separate cover letters; information that might appear in a cover letter should be included in the submission itself. Similar, to the extent possible, any attachments to the submission should be included in the same file as the submission itself, and not as separate files. Comments must be in English. A person requesting that information contained in a comment submitted by that person be treated as confidential business information must certify that such information is business confidential and would not customarily be released to the public by the submitting person. Confidential business information must be clearly marked “BUSINESS CONFIDENTIAL” in a contrasting color ink at the top of each page of each copy.

Information or advice contained in a comment submitted, other than business confidential information, may be determined by USTR to be confidential in accordance with section 135(g)(2) of the Trade Act 1974 (19 U.S.C. 2155(g)(2)). If the submitting person believes that information or advice may qualify as such, the submitting person—

(1) Must so designate the information or advice;

(2) Must clearly mark the material as “SUBMITTED IN CONFIDENCE” in a contrasting color ink at the top of each page of each copy; and

(3) Is encouraged to provide a non-confidential summary of the information or advice.

Pursuant to section 127(e) of the URAA (19 U.S.C. 3537(e)), USTR will maintain a file on this dispute settlement proceeding, assessable to the public, in the USTR Reading Room, which is located at 1724 F Street, NW., Washington, DC 20508. The public file will include non-confidential comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket No. WT/DS-262, EC Sunset Dispute) may be made by selling the USTR Reading Room at (202) 395-6186. The USTR Reading Room is open to the public 9:30 a.m. to 12 noon and 1 p.m. to 4 p.m., Monday through Friday.

Bruce Hirsh,
Acting Assistant United States Trade Representative for Monitoring and Enforcement.

[FR Doc. 02-20002 Filed 8-6-02; 8:45 am]

BILLING CODE 3190-01-M